DEPARTMENT OF HOUSING AND URBAN DEVELOPMENT

[Docket No. FR-5038-N-03]

Notice of Proposed Information Collection: Comment Request, Continuum of Care Homeless Assistance Grant Application

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comments Due Date: November 20, 2006.

ADDRESSES: Interested persons are invited to submit comments regarding this proposal. Comments should refer to the proposal by name and/or OMB Control Number and should be sent to: Shelia Jones, Reports Liaison Officer, Department of Housing Urban and Development, 451 Seventh Street, SW., Room 7232, Washington, DC 20410.

FOR FURTHER INFORMATION CONTACT: Mark Johnston, Acting Deputy Assistant Secretary for Special Needs, (202) 708-4300 (this is not a toll-free number).

SUPPLEMENTARY INFORMATION: The Department is submitting the proposed information collection to OMB for review, as required by the Paperwork Reduction Act of 1995 (55 U.S.C. Chapter 35, as amended).

This Notice is soliciting comments from members of the public and affected agencies concerning the proposed collection of information to:

(1) Evaluate whether the proposed collection of information is necessary for the proper performance of the functions of the affected agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology, e.g., permitting electronic submission of responses.

This Notice also lists the following information:

Title of Proposal: Continuum of Care Homeless Assistance Grant Application.

OMB Control Number, if applicable: 2506-0112.

Description of the need for the information and proposed use: Information is to be used in the rating, ranking, and selection of proposals submitted to HUD by state and local governments, public housing authorities, and nonprofit organizations for awarded funds under the Continuum of Care Homeless Assistance programs.

Agency form numbers: HUD-40090-1, HUD-40090-2, HUD-40090-4, SF-424, HUD-SF-424 SUPP, HUD-2880, HUD-96010, HUD-27300, HUD-2991, HUD-2993, HUD-2994.

Members of affected public: Eligible applicants interested in applying for the Continuum of Care Homeless Assistance funds.

Estimation of the total numbers of hours needed to prepare the information collection including number of respondents, frequency of response, and hours of response:

Number of Respondents: 12,770.

Frequency of Response: 1.

Hours of response: 202,251 hours.

Total combined burden hours: 202,251 hours.

Status of the proposed information collection: Reinstatement of previously approved collection number will expire March 31, 2009.

Authority: The Paperwork Reduction Act of 1995, 44 U.S.C. Chapter 35, as amended.

Dated: September 15, 2006.
Pamela H. Patenaude,
Assistant Secretary for Community Planning and Development.

[FR Doc. 06-7948 Filed 9-20-06; 8:45 am]

BILLING CODE 4210-67-P